DEPARTMENT OF THE INTERIOR

National Park Service

[NPS-WASO-NRNHL-DTS#-35601; PPWOCRADI0, PCU00RP14.R50000]

National Register of Historic Places; Notification of Pending Nominations and Related Actions

AGENCY: National Park Service, Interior.

ACTION: Notice.

SUMMARY: The National Park Service is soliciting electronic comments on the significance of properties nominated before March 25, 2023, for listing or related actions in the National Register of Historic Places.

DATES: Comments should be submitted electronically by April 20, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before March 25, 2023. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name (if applicable), Address/Boundary, City, Vicinity, Reference Number.

ARIZONA

Maricopa County

Connor-Harold House, 5729 North Palo Cristi Rd., Paradise Valley, SG100008908

Ainsworth, Eliza and Charles, House, 9 East Country Club Dr., Phoenix, SG100008909

CALIFORNIA

Orange County

ELECTRA (motor yacht), 16591 Ensign Ct., Huntington Beach, SG100008894

COLORADO

Denver County

655 Broadway Building, Address Restricted, Denver vicinity, SG100008903

MINNESOTA

Hennepin County

Hiawatha Golf Course, 4553 Longfellow Ave., Minneapolis, SG100008905

NEW YORK

Dutchess County

Tioronda Estate-Craig House Historic District, 7 Craig House Ln., 21 Grandview Ave., 636 and 644 Wolcott Ave., Beacon vicinity, SG100008896

Monroe County

Todd Union, 415 Alumni Rd., Rochester, SG100008906

Tompkins County

Stewart Park, 1 James L. Gibbs Dr., Ithaca, SG100008895

Westchester County

Westminster Presbyterian Church, 76 Warburton Ave., Yonkers, SG100008899

OHIO

Franklin County

Ohio Historical Center and Ohio Village, 800 East 17th Ave., Columbus, SG100008897

PENNSYLVANIA

Northampton County

Walnut Street Bridge, 200 ft. west of the intersection of Walnut St. and the Saucon Valley Rail Tr., Hellertown, SG100008901

VIRGINIA

Charlotte County

Keysville Historic District, King and Church Sts., Railroad Ave., and others, Keysville, SG100008902

WISCONSIN

Milwaukee County

North Milwaukee High School, 5372 North 37th St., Milwaukee, SG100008907

Additional documentation has been received for the following resources:

ARIZONA

Maricopa County

Portland Street Historic District (Additional Documentation) (Roosevelt Neighborhood MRA), Portland St. between 3rd and 7th Aves., Phoenix, AD83003491

Pima County

Blenman-Elm Historic District (Additional Documentation), 2350 East Elm St., Tucson, AD03000318

VIRGINIA

Hanover County

Little River UDC Jefferson Davis Highway Marker (Additional Documentation) (UDC Commemorative Highway Markers along the Jefferson Davis Highway in Virginia MPS), 15400 Washington Hwy., Doswell vicinity, AD100002355

Authority: Section 60.13 of 36 CFR part 60.

Dated: March 29, 2023.
Lisa P. Davidson,
Program Manager, National Historic Landmarks.

[FR Doc. 2023-07111 Filed 4-4-23; 8:45 am]

BILLING CODE 4312-52-P